DEPARTMENT OF VETERANS AFFAIRS

38 CFR Part 36

RIN 2900-AC85

Loan Guaranty: Loans To Purchase Manufactured Homes; Correction

AGENCY: Department of Veterans Affairs.

ACTION: Correcting amendments.

SUMMARY: On July 14, 1993, the Department of Veterans Affairs (VA) published a final rule in the Federal Register amending its manufactured home loan guaranty regulations to comply with certain provisions of the Veterans' Home Loan Program Improvements and Property Rehabilitation Act of 1987. That document erred in redesignating certain paragraphs in the regulatory provision pertaining to maximum loan amounts and terms. This document corrects that final rule.

DATES: Effective on August 28, 2017.

FOR FURTHER INFORMATION CONTACT: Erica Lewis, Management Analyst, Loan Guaranty Service (26A1), Veterans Benefits Administration, Department of Veterans Affairs, 810 Vermont Avenue NW., Washington DC 20420, (202) 632-8823. (This is not a toll-free number.)

SUPPLEMENTARY INFORMATION: On July 14, 1993, VA published a final rule in the Federal Register, 58 FR 37857-37861, amending its manufactured home loan guaranty regulations to comply with certain provisions of the Veterans' Home Loan Program Improvements and Property Rehabilitation Act of 1987. Public Law 100-198, 101 Stat. 1315. VA amended 38 CFR 36.4204 by redesignating certain paragraphs within that section. 58 FR 37857-37859. These amendments effectually created two paragraph (d) designations in § 36.4204. See 38 CFR 36.4204. This document corrects that final rule. This document also corrects a minor punctuation error occurring in the newly redesignated paragraph (f).

Specifically, VA is correcting § 36.4204 to redesignate paragraphs (e), (f), and (g) as (f), (g), and (h) and redesignate the current second (d) paragraph as new paragraph (e).

List of Subjects in 38 CFR Part 36

Condominiums, Loan programs—housing and community development, Manufactured homes, Veterans.

Dated: August 18, 2017.
Jeffrey Martin,
Office Program Manager, Office of Regulation Policy & Management, Office of the Secretary, Department of Veterans Affairs.

For the reasons stated in the preamble, the Department of Veterans Affairs corrects 38 CFR part 36 as set forth below:

PART 36—LOAN GUARANTY

1. The authority citation for part 36 continues to read as follows:

Authority: 38 U.S.C. 501 and 3720.

§ 36.4204 [Amended]

2. In § 36.4204:

a. Redesignate paragraphs (e), (f), and (g) as paragraphs (f), (g), and (h);

b. Redesignate the current second (d) paragraph as new paragraph (e); and

c. Remove the semicolon at the end of the newly redesignated paragraph (f) introductory text and add a colon in its place.

[FR Doc. 2017-18037 Filed 8-25-17; 8:45 am]

BILLING CODE 8320-01-P